DEPARTMENT OF AGRICULTURE

Agricultural Marketing Service

7 CFR Part 205

[Document Number AMS-NOP-11-0005; NOP-11-01]

Regulatory Flexibility Act: Section 610 Review of National Organic Program Regulations

AGENCY: Agricultural Marketing Service, USDA.

ACTION: Review and request for comments.

SUMMARY: This document announces the Agricultural Marketing Service's (AMS) plans to review the National Organic Program (NOP) regulations (7 CFR part 205). This review will be conducted under criteria contained in section 610 of the Regulatory Flexibility Act (RFA), as amended. The RFA provisions require that all Federal agencies review existing regulations that have a significant economic impact on a substantial number of small entities to determine whether the associated impact can be minimized.

DATES: Written comments must be received by April 26, 2011.

ADDRESSES: Interested persons may submit written comments on this review using the following addresses:

• Mail: Toni Strother, Agricultural Marketing Specialist, National Organic Program, USDA-AMS-NOP, 1400 Independence Ave., SW., Room 2646-So., Ag Stop 0268, Washington, DC 20250.

• Internet: http://www.regulations.gov.

Written comments responding to this review should reference the document number (AMS-NOP-11-0005; NOP-11-01). It is our intention to have all comments concerning this review, including names and addresses when provided, whether submitted by mail or Internet available for viewing on the Regulations.gov (http://www.regulations.gov) Internet site. Comments submitted in response to this notice of review will also be available for viewing in person at USDA, AMS, National Organic Program, 1400 Independence Ave., SW., Room 2646-South Building, Washington, DC, from 9 a.m., to 12 noon and from 1 p.m. to 4 p.m., Monday through Friday (except official Federal holidays). Persons wanting to visit the USDA South Building to view comments received in response to this notice are requested to make an appointment in advance by calling (202) 720-3252.

FOR FURTHER INFORMATION CONTACT: Melissa Bailey, PhD, Director, Standards Division, National Organic Program, USDA-AMS-NOP, 1400 Independence Ave., SW., Room 2646-So., Ag Stop 0268, Washington, DC 20250-0268; telephone: (202) 720-3252; facsimile (202) 205-7808; or electronic mail: Melissa.Bailey@usda.gov.

SUPPLEMENTARY INFORMATION: The NOP is authorized by the Organic Foods Production Act (OFPA) of 1990, as amended (7 U.S.C. 6501-6522). The Agricultural Marketing Service (AMS) administers the NOP. Under the NOP, the AMS oversees national standards for the production, handling, and labeling of organically produced agricultural products. Final regulations implementing the National Organic Program (NOP) were published December 21, 2000 (65 FR 80548), and became effective on October 21, 2002.

On March 24, 2006, AMS published in the Federal Register (71 FR 14827), its schedule to review certain regulations, including the NOP regulations, under criteria contained in section 610 of the RFA (5 U.S.C. 601-612). Because many AMS regulations impact small entities, AMS decided, as a matter of policy, to periodically review regulations, irrespective of whether specific regulations meet the threshold requirement for mandatory review established by the RFA. As a result, the Agency is now conducting this review of the NOP regulations.

The purpose of the review is to determine whether the NOP regulations should be continued without change, amended, or rescinded, consistent with the objectives of applicable statutes, to minimize the impacts on small entities. In conducting this review, the AMS will consider the following factors: (1) The continued need for the regulations; (2) the nature of complaints or comments received from the public concerning the regulations; (3) the complexity of the regulations; (4) the extent to which the regulations overlap, duplicate, or conflict with other Federal rules, and, to the extent feasible, with State and local regulations; and (5) the length of time since the regulations have been evaluated or the degree to which technology, economic conditions, or other factors have changed in the area affected by the regulations.

Written comments, views, opinions, and other information regarding the impact of the NOP regulations on small businesses are invited.

Dated: February 22, 2011.
Rayne Pegg,
Administrator, Agricultural Marketing Service.

[FR Doc. 2011-4257 Filed 2-24-11; 8:45 am]

BILLING CODE 3410-02-P